EQUAL EMPLOYMENT OPPORTUNITY COMMISSION

SES Performance Review Board—Appointment of Members

AGENCY: Equal Employment Opportunity Commission.

ACTION: Notice.

SUMMARY: Notice is hereby given of the appointment of members to the Performance Review Board of the Equal Employment Opportunity Commission.

FOR FURTHER INFORMATION CONTACT: Traci M. DiMartini, Chief Human Capital Officer, U.S. Equal Employment Opportunity Commission, 131 M Street NE., Washington, DC 20507, (202) 663-4306.

SUPPLEMENTARY INFORMATION: Publication of the Performance Review Board (PRB) membership is required by 5 U.S.C. 4314(c)(4). The PRB reviews and evaluates the initial appraisal of a senior executive' s performance by the supervisor, and makes recommendations to the Chair, EEOC, with respect to performance ratings, pay level adjustments and performance awards.

The following are the names and titles of executives appointed to serve as members of the SES PRB. Designated members will serve a 12-month term; which begins on November 1, 2017.

PRB Chair:

Mr. Bryan C. Burnett, Chief Information Officer, Equal Employment Opportunity Commission

Members:

Mr. Carlton Hadden, Director, Office of Federal Operations, Equal Employment Opportunity Commission

Ms. Germaine P. Roseboro, Chief Financial Officer, Equal Employment Opportunity Commission

Ms. Marika Litras, Enforcement Director, U.S. Department of Labor

Mr. Stuart Ishimaru, Assistant Director, Office of Equal Opportunity and Fairness, Consumer Financial Protection Bureau

By the direction of the Commission.
Dated: September 29, 2017.
Cynthia G. Pierre,
Chief Operating Officer.

[FR Doc. 2017-21530 Filed 10-5-17; 8:45 am]

BILLING CODE 6570-01-P